DEPARTMENT OF AGRICULTURE

Rural Utilities Service

Information Collection Activity; Comment Request

AGENCY: Rural Utilities Service, USDA.

ACTION: Notice; request for comments.

SUMMARY: In accordance with the Paperwork Reduction Act of 1995 (44 U.S.C. Chapter 35, as amended), the United States Department of Agriculture's Rural Utilities Service (RUS), invites comments on this information collection for which the Agency intends to request approval from the Office of Management and Budget (OMB).

DATES: Comments on this notice must be received by December 30, 2019.

FOR FURTHER INFORMATION CONTACT: Thomas P. Dickson, Rural Development Innovation Center—Regulatory Team 2, USDA, 1400 Independence Avenue SW, STOP 1522, South Building, Washington, DC 20250-1522. Telephone: (202) 690-4492. Email thomas.dickson@usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection that RUS is submitting to OMB for extension of an existing collection. Comments are invited on: (a) Whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to: Thomas P. Dickson, Rural Development Innovation Center—Regulatory Team 2, USDA, 1400 Independence Avenue SW, STOP 1522, South Building, Washington, DC 20250-1522. Telephone: (202) 690-4492. Email: thomas.dickson@usda.gov.

Title: 7 CFR part 1783, Revolving Fund Program.

OMB Control Number: 0572-0138.

Type of Request: Extension of a currently approved information collection.

Abstract: The Rural Utilities Service (RUS) supports the sound development of rural communities and the growth of our economy without endangering the environment. One of the ways the Agency pursues this goal is to provide financial and technical assistance to help communities bring safe drinking water and sanitary, environmentally sound waste disposal facilities to rural Americans in greatest need. The Revolving Fund Program (RFP) helps qualified non-profits create a revolving loan fund that can provide financing for the extension and improvement of water and waste disposal systems in rural areas. Entities eligible for the revolving loan fund will be the same entities eligible to obtain a loan, loan guarantee, or grant from RUS Water and Waste Disposal and Wastewater loan and grant programs. As grant recipients, the non-profit organizations establish a revolving loan fund to provide loans to finance predevelopment costs of water or wastewater projects, or short-term small capital projects not part of the regular operation and maintenance of current water and wastewater systems. The collection of information consists of the materials to file a grant application with the agency, including forms, certifications and required documentation.

Estimate of Burden: Public reporting burden for this collection of information is estimated to average 5.69 hour per response.

Respondents: Non-profit institutions.

Estimated Number of Respondents: 4.

Estimated Total Annual Responses: 66.

Estimated Number of Responses per Respondent: 16.6.

Estimated Total Annual Burden on Respondents: 376 Hours.

Copies of this information collection can be obtained from MaryPat Daskal, Management Analyst, Rural Development Innovation Center—Regulatory Team 2, USDA, 1400 Independence Avenue SW, STOP 1522, South Building, Washington, DC 20250-1522. Telephone: (202) 720-7853. Email: MaryPat.Daskal@usda.gov.

All responses to this notice will be summarized and included in the request for OMB approval. All comments will also become a matter of public record.

Chad Rupe,
Administrator, Rural Utilities Service.

[FR Doc. 2019-23586 Filed 10-28-19; 8:45 am]

BILLING CODE 3410-15-P